OVERSEAS PRIVATE INVESTMENT CORPORATION

Sunshine Act Meeting Notice

TIME AND DATE: Thursday, March 8, 2017, 10 a.m. (OPEN Portion); 10:15 a.m. (CLOSED Portion).

PLACE: Offices of the Corporation, Twelfth Floor Board Room, 1100 New York Avenue NW, Washington, DC.

STATUS: Meeting OPEN to the Public from 10 a.m. to 10:15 a.m. Closed portion will commence at 10:15 a.m. (approx.).

MATTERS TO BE CONSIDERED:

1. President's Report

2. Tribute—Maxwell Taylor Kennedy

3. Minutes of the Open Session of the December 14, 2017, Board of Directors Meeting

FURTHER MATTERS TO BE CONSIDERED (Closed to the Public 2:15 p.m.):

1. Finance Project—Colombia

2. Minutes of the Closed Session of the December 14, 2017, Board of Directors Meeting

3. Reports

4. Pending Projects

CONTACT PERSON FOR MORE INFORMATION: Information on the meeting may be obtained from Catherine F. I. Andrade at (202) 336-8768, or via email at Catherine.Andrade@opic.gov.

Dated: February 15, 2018.
Catherine Andrade,
Corporate Secretary, Overseas Private Investment Corporation.

[FR Doc. 2018-03572 Filed 2-16-18; 11:15 am]

BILLING CODE 3210-01-P